DEPARTMENT OF HOUSING AND URBAN DEVELOPMENT

[Docket No. FR-5547-D-01]

Delegation Authority for the Office of the Chief Information Officer

AGENCY: Office of the Chief Information Officer, HUD.

ACTION: Notice of Delegation of Authority.

SUMMARY: Through this notice, the Secretary of HUD delegates to the Chief Information Officer (CIO) all authority and responsibility for the Department's information technology (IT) and authority to serve as the Department's Senior Information Technology Executive.

DATES: Effective Date: October 20, 2011.

FOR FURTHER INFORMATION CONTACT: Juanita Galbreath, Deputy Chief Information Officer for Cyber Security and Privacy, Office of the Chief Information Officer, Department of Housing and Urban Development, 451 7th Street SW., Room 4164, Washington, DC 20410, telephone number (202) 708-0306 (this is not a toll-free number). Persons with hearing or speech impairments may access this number by calling the toll-free Federal Relay Service at 1-(800) 877-8339.

SUPPLEMENTARY INFORMATION:

Section A. Authority

The Secretary of HUD hereby delegates to the CIO responsibility for the management of the Department's information technology resources. In carrying out such duties and responsibilities, the CIO shall be responsible for meeting the requirements of Section 5125 of the Clinger-Cohen Act (40 U.S.C. 11315), which established the position of the Chief Information Officer. Additional responsibilities of the CIO derive from the Paperwork Reduction Act of 1995 (44 U.S.C. 3506), the Privacy Act of 1974 (5 U.S.C. 552(a)), and the E-Government Act of 2002. The CIO shall, among other duties;

1. Ensure compliance by all HUD program offices with the prompt, efficient, and effective implementation of Information Resources Management responsibilities.

2. Ensure compliance by all HUD program offices with the prompt, efficient, and effective reduction of information collection burdens on the public.

3. Provide advice and other assistance to the Secretary of HUD and other senior management personnel of HUD to ensure that information technology (IT) is acquired and information resources are managed effectively and efficiently.

4. Manage the Department's Privacy Act and Computer Matching Programs, particularly ensuring that personally identifiable information collected by HUD is used and maintained according to the provisions of the Privacy Act of 1974.

5. Promote the effective and efficient design and operation of all major IT processes for HUD, including improvements to work processes of the Department. Monitor and evaluate the performance of IT programs of HUD based on applicable performance measurements, and advise the Secretary of HUD and IT Governance/Oversight Boards regarding whether to continue, modify, or terminate a program or project.

6. Serve as a member of the executive branch Chief Information Officers Council, participate in its functions, and monitor the Department's implementation of IT standards promulgated by the Secretary of Commerce.

7. Serve as a representative to the Interagency Committee on Government Information established under Section 207(c) of the E-Government Act.

8. Perform any additional duties that are assigned to the CIO by applicable law, including Office of Management and Budget (OMB) regulations and circulars.

9. Consistent with the roles and responsibilities of IT Governance/Oversight Boards, design, implement, and maintain HUD process for maximizing the value and assessing and managing the risks of IT acquisitions, in accordance with Section 5122 of the Clinger-Cohen Act.

10. Monitor the Department's compliance with the policies, procedures, and guidance in OMB Circular A-130 (or equivalent guidance), and recommend or take appropriate corrective action in instances of failures to comply and, as required by the Circular, report to the OMB Director.

11. To meet the objectives of the Government Paperwork Elimination Act (Pub. L. 105-277), the CIO must ensure that the Department's methods for use and acceptance of electronic signatures are compatible with the relevant policies and procedures issued by the OMB Director.

12. The CIO will work with the Office of Public Affairs (OPA) and the Office of General Counsel (OGC) to ensure that a publicly accessible HUD Web site includes all information required to be published in the Federal Register under paragraphs (1) and (2) of Section 552(a) of Title 5 of the United States Code (Freedom of Information Act).

13. In consultation with OMB, OGC, and other agencies, as appropriate, the CIO will coordinate with the appropriate HUD offices to ensure that the Department implements Sections 206(c) and 206(d) of the E-Government Act (electronic rulemaking submissions and electronic dockets).

14. To ensure that the Department carries out the E-Government Act's requirements for privacy impact analyses, as well as related OMB policies and guidance, the CIO will:

(a) In coordination with OGC, oversee the Department's preparation of privacy impact assessments;

(b) Ensure that HUD privacy impact assessments are provided to OMB for each information system for which funding is requested; and

(c) In coordination with OGC and OPA, ensure that, if practicable and appropriate, HUD privacy impact assessments are made available to the public.

15. The CIO will have ultimate responsibility for ensuring that the Department fulfills its responsibilities under Title III of the E-Government Act, the Federal Information Security Management Act, by:

(a) Consistent with 44 U.S.C. 3544, designating a senior Department official who will report to the CIO and have responsibility for departmentwide information security as his or her primary duty, including the following responsibilities:

(b) Developing and maintaining an OMB-approved departmentwide information security program consistent with the requirements of 44 U.S.C. 3544(b), 44 U.S.C. 3543, and 40 U.S.C. 11331.

16. Consistent with Section 207(d) of the E-Government Act, the CIO will ensure that the Department complies with all OMB policies relating to the categorization of information.

17. In coordination with OGC and OPA, the CIO will ensure that privacy notices posted on HUD Web sites comply with OMB guidance (see Section 208(c) of the E-Government Act).

Section B. Authority Excepted

The authority delegated in this document does not include the authority to sue or be sued or to issue or waive regulations.

Section C. Authority To Redelegate

The CIO is authorized to redelegate to employees of HUD any of the authority delegated under Section A above.

Section D. Authority Superseded

There are no previous redelegations of authority.

The Secretary may revoke the authority authorized herein, in whole or part, at any time.

Authority: Section 7(d), Department of Housing and Urban Development Act (42 U.S.C. 3535(d)).

Dated: October 20, 2011.
Shaun Donovan,
Secretary.

[FR Doc. 2011-28301 Filed 10-31-11; 8:45 am]

BILLING CODE 4210-67-P